DEPARTMENT OF AGRICULTURE

Food and Nutrition Service

Agency Information Collection Activities: Proposed Collection; Comment Request—Food Distribution Forms

AGENCY: Food and Nutrition Service (FNS), USDA.

ACTION: Notice.

SUMMARY: In accordance with the Paperwork Reduction Act of 1995, this notice invites the general public and other public agencies to comment on this information collection. This collection is a revision of a currently approved collection which FNS employs to determine public participation and the distribution of foods in the Food Distribution Programs.

DATES: Written comments must be received on or before September 12, 2011.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Laura Castro, Branch Chief, Policy Branch, Food Distribution Division, Food and Nutrition Service, U.S. Department of Agriculture, 3101 Park Center Drive, Room 500, Alexandria, VA 22302-1594. Comments may also be submitted via fax to the attention of Theresa Geldard at 703-305-2410 or via e-mail to Theresa.Geldard@fns.usda.gov. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 500, Alexandria, Virginia 22302.

All responses to this notice will be summarized and included in the request for Office of Management and Budget approval. All comments will be a matter of public record.

FOR FURTHER INFORMATION CONTACT: Requests for additional information or copies of this information collection should be directed to Laura Castro at 703-305-2662.

SUPPLEMENTARY INFORMATION: Title: Food Distribution Forms.

Form Numbers: FNS-7, 52, 53, 57, 152, 153, 155, 663, 667, and SF-425.

OMB Number: 0584-0293.

Expiration Date: December 31, 2012.

Type of Request: Revision of a currently approved collection.

Abstract: The Food Distribution Programs of the Department of Agriculture (USDA) assist American farmers and needy people by purchasing and delivering food to State agencies that, in turn, distribute them to organizations that assist those in need. Effective administration of Food Distribution Programs is dependent on the collection and submission of information from State and local agencies to FNS. This information includes, for example, the number of households served in the programs; the quantities of foods ordered, and where the food is to be delivered; verification of the receipt of a food order; and the amounts of USDA foods in inventory. FNS employs this information collection activity to obtain the data necessary to make those calculations. This is a revision of an information collection based on a final rule titled Food Distribution Program on Indian Reservations (FDPIR): Amendments Related to the Food, Conservation, and Energy Act of 2008 published in 76 FR 18861 on April 6, 2011. This final rule codifies several policy changes to ensure FDPIR regulations are consistent with changes made by the 2008 Farm Bill to the Supplemental Nutrition Assistance Program (SNAP).

Affected Public: Respondent groups include: (1) Individuals and households; (2) businesses or other for-profit agencies; (3) not for profit organizations; and (4) State, local, and tribal governments.

Estimated Number of Respondents: The total estimated number of respondents is 469,041. This includes 457,000 individuals and households, 500 businesses and other for-profit companies, 11,211 private not-for-profit organizations, and 330 State, local, and tribal governments.

Estimated Number of Responses per Respondent: The total estimated average number of responses is 2.59 per respondent.

Estimated Total Annual Responses: 1,655,721.

Estimated Time per Response: The average response time is 0.27 hours per response.

Estimated Total Annual Burden on Respondents: See the table below for estimated total annual burden for each type of respondent.

Affected public | Est. number of respondents | Number of responses per respondent | Total annual responses | Est. total hours per response | Est. total burden
Reporting
State, Local, and Tribal Governments | 330.00 | 542.37 | 178,980.93 | 0.12 | 21,935.87
Private For Profit | 500.00 | 9.12 | 4,560.00 | 1.04 | 4,740.00
Private Not for Profit | 11,211.00 | 1.48 | 16,542.26 | 1.67 | 27,630.46
Individual | 457,000.00 | 2.22 | 1,013,839.00 | 0.27 | 278,466.17
Total Estimated Reporting Burden | 469,041.00 | 2.59 | 1,213,922.19 | 0.27 | 332,772.49
Recordkeeping
State, Local, and Tribal Governments | 0.00 | 0.00 | 8,188.05 | 0.16 | 8,889.37
Private For Profit | 0.00 | 0.00 | 182,576.00 | 0.27 | 45,536.25
Private Not for Profit | 0.00 | 0.00 | 251,035.00 | 2.89 | 691,974.80
Individual | 0.00 | 0.00 | 0.00 | 0.00 | 0.00
Total Estimated Recordkeeping Burden | 11,211.00 |  | 441,799.05 |  | 746,400.42
Total of Reporting and Recordkeeping
Reporting | 469,041.00 | 2.59 | 1,213,922.19 | 0.27 | 332,772.49
Recordkeeping | 0.00 | 0.00 | 441,799.05 | 0.00 | 746,400.42
Total |  | 2.59 | 1,655,721.24 | 0.27 | 1,079,172.92

Dated: July 7, 2011.
Audrey Rowe,
Administrator, Food and Nutrition Service.

[FR Doc. 2011-17449 Filed 7-11-11; 8:45 am]

BILLING CODE 3410-30-P